DEPARTMENT OF COMMERCE

International Trade Administration

[A-475-818]

Certain Pasta From Italy: Final Results of Antidumping Duty Administrative Review; 2015-2016

AGENCY: Enforcement and Compliance, International Trade Administration, Department of Commerce.

SUMMARY: On August 3, 2017, the Department of Commerce (the Department) published the preliminary results of the antidumping duty administrative review of certain pasta (pasta) from Italy. The period of review (POR) is July 1, 2015, through June 30, 2016. As a result of our analysis of the comments and information received, these final results differ from the Preliminary Results with respect to Ghigi 1870 S.p.A. and Pasta Zara S.p.A. (collectively, Ghigi/Zara).¹ For the final weighted-average dumping margins, see the “Final Results of Review” section below.

¹ See Memorandum titled “2015-2016 Antidumping Duty Administrative Review of Certain Pasta from Italy: Ghigi and Zara Collapsing Memorandum,” dated July 31, 2017.

DATES: Applicable December 5, 2017.

FOR FURTHER INFORMATION CONTACT: Joy Zhang (Ghigi/Zara) or George McMahon (Indalco), AD/CVD Operations, Office III, Enforcement and Compliance, International Trade Administration, U.S. Department of Commerce, 1401 Constitution Avenue NW., Washington, DC 20230; telephone: (202) 482-1168 or (202) 482-1167, respectively.

SUPPLEMENTARY INFORMATION:

Background

On August 3, 2017, the Department of Commerce (the Department) published the Preliminary Results.² In accordance with 19 CFR 351.309(c)(1)(ii), we invited parties to comment on our Preliminary Results. On September 5, 2017, the petitioners and Ghigi/Zara submitted their case briefs. On September 11, 2017, the petitioners and Ghigi/Zara submitted their rebuttal briefs.³ On September 5, 2017 Ghigi/Zara submitted a request for a hearing, which it withdrew on October 20, 2017.⁴

² See Certain Pasta from Italy: Preliminary Results of Antidumping Duty Administrative Review; 2015-2016, 82 FR 36126 (August 3, 2017) (Preliminary Results), and accompanying Preliminary Decision Memorandum.

³ See Petitioners' case brief, dated September 5, 2017, Ghigi/Zara's case brief, dated September 5, 2017, Petitioners' rebuttal brief, dated September 11, 2017 and Ghigi/Zara's rebuttal brief, dated September 11, 2017.

⁴ See letter titled “Certain Pasta from Italy: Request for a Hearing,” dated September 5, 2017; see also letter titled “Certain Pasta from Italy: Withdrawal of Request for Hearing,” dated October 20, 2017.

Scope of the Order

Imports covered by the order are shipments of certain non-egg dry pasta. The merchandise subject to review is currently classifiable under items 1901.90.90.95 and 1902.19.20 of the Harmonized Tariff Schedule of the United States (HTSUS). Although the HTSUS subheadings are provided for convenience and customs purposes, the written description of the merchandise subject to the order is dispositive.⁵

⁵ For a full description of the scope of the order, see the “Issues and Decision Memorandum for the Final Results of Antidumping Duty Administrative Review and Partial Rescission: Certain Pasta from Italy; 2014-2015”, dated concurrently with this notice (Issues and Decision Memorandum) and incorporated herein by reference.

Analysis of Comments Received

All issues raised in the case and rebuttal briefs by parties to this administrative review are addressed in the Issues and Decision Memorandum. A list of the issues that parties raised and to which we responded is attached to this notice as an Appendix. The Issues and Decision Memorandum is a public document and is on-file electronically via Enforcement and Compliance's Antidumping and Countervailing Duty Centralized Electronic Service System (ACCESS). ACCESS is available to registered users at https://access.trade.gov and in the Central Records Unit (CRU), Room B8024 of the main Department of Commerce building. In addition, a complete version of the Issues and Decision Memorandum can be accessed directly on the Internet at http://enforcement.trade.gov/frn/index.html. The signed Issues and Decision Memorandum and the electronic versions of the Issues and Decision Memorandum are identical in content.

Changes Since the Preliminary Results

Based on a review of the record and comments received from interested parties regarding our Preliminary Results, we have recalculated Ghigi/Zara's weighted-average dumping margin.⁶ As a result of the recalculation of the rate for Ghigi/Zara, the weighted-average dumping margin for the non-selected companies has changed. The weighted-average dumping margin for Indalco remains unchanged from the Preliminary Results.

⁶ See Issues and Decision Memorandum; see also Memorandum to the File, Through Eric B. Greynolds, Program Manager, Office III, from Joy Zhang, Case Analyst, Office III, titled “Certain Pasta from Italy: Calculation Memorandum—Liguori,” dated concurrently with this notice, and Memorandum to the File, Through Eric B. Greynolds, Program Manager, Office III, from George McMahon, Case Analyst, Office III, titled “Certain Pasta from Italy: Calculation Memorandum—Indalco,” dated concurrently with this notice.

Final Results of the Review

As a result of this review, the Department calculated a weighted-average dumping margin that is above de minimis for Ghigi/Zara and a de minimis margin for Indalco for the period July 1, 2015, through June 30, 2016. Therefore, in accordance with section 735(c)(5)(A) of the Act, the Department assigned the weighted-average dumping margin calculated for Ghigi/Zara to the four non-selected companies in these final results, as referenced below.

Producer and/or exporter | Weighted- average dumping margin (percent)
Ghigi 1870 S.p.A. and Pasta Zara S.p.A. (Zara) (collectively Ghigi/Zara) ⁷ | 5.30
Industria Alimentare Colavita S.p.A. (Indalco) | 0.00
GR.A.M.M. S.r.l. | 5.30
Pastificio Andalini S.p.A. (Andalini) | 5.30
Pastificio Zaffiri S.r.l. (Zaffiri) | 5.30
Tesa SrL (Tesa) | 5.30

Duty Assessment

The Department shall determine and Customs and Border Protection (CBP) shall assess antidumping duties on all appropriate entries.⁸ For any individually examined respondent whose weighted-average dumping margin is above de minimis, we calculated importer-specific ad valorem duty assessment rates based on the ratio of the total amount of dumping calculated for the importer's examined sales to the total entered value of those same sales in accordance with 19 CFR 351.212(b)(1). Upon issuance of the final results of this administrative review, if any importer-specific assessment rates calculated in the final results are above de minimis (i.e., at or above 0.5 percent), the Department will issue instructions directly to CBP to assess antidumping duties on appropriate entries. Where either the respondent's weighted-average dumping margin is zero or de minimis, or an importer-specific assessment rate is zero or de minimis, we will instruct CBP to liquidate the appropriate entries without regard to antidumping duties.

⁷ See Memorandum titled “2015-2016 Antidumping Duty Administrative Review of Certain Pasta from Italy: Ghigi and Zara Collapsing Memorandum,” dated July 31, 2017.

⁸ In these final results, the Department applied the assessment rate calculation method adopted in Antidumping Proceedings: Calculation of the Weighted-Average Dumping Margin and Assessment Rate in Certain Antidumping Proceedings: Final Modification, 77 FR 8101 (February 14, 2012).

In accordance with the Department's “automatic assessment” practice, for entries of subject merchandise during the POR produced by each respondent for which it did not know that its merchandise was destined for the United States, we will instruct CBP to liquidate unreviewed entries at the all-others rate if there is no rate for the intermediate company(ies) involved in the transaction.

We intend to issue assessment instructions directly to CBP 15 days after publication of the final results of this review.

Cash Deposit Requirements

The following cash deposit requirements will be effective upon publication of the notice of final results of administrative review for all shipments of subject merchandise entered, or withdrawn from warehouse, for consumption on or after the publication of the final results of this administrative review, as provided by section 751(a)(2) of the Act: (1) The cash deposit rate for respondents noted above will be the rate established in the final results of this administrative review; (2) for merchandise exported by manufacturers or exporters not covered in this administrative review but covered in a prior segment of the proceeding, the cash deposit rate will continue to be the company specific rate published for the most recently completed segment of this proceeding; (3) if the exporter is not a firm covered in this review, a prior review, or the original investigation, but the manufacturer is, the cash deposit rate will be the rate established for the most recently completed segment of this proceeding for the manufacturer of the subject merchandise; and (4) the cash deposit rate for all other manufacturers or exporters will continue to be 15.45 percent, the all-others rate established in the antidumping investigation as modified by the section 129 determination. These cash deposit requirements, when imposed, shall remain in effect until further notice.

Notification to Importers Regarding the Reimbursement of Duties

This notice also serves as a final reminder to importers of their responsibility under 19 CFR 351.402(f) to file a certificate regarding the reimbursement of antidumping and/or countervailing duties prior to liquidation of the relevant entries during the POR. Failure to comply with this requirement could result in the Department's presumption that reimbursement of antidumping and/or countervailing duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.221(b)(5).

Dated: November 29, 2017.
Gary Taverman,
Deputy Assistant Secretary for Antidumping and Countervailing Duty Operations, performing the non-exclusive functions and duties of the Assistant Secretary for Enforcement and Compliance.

Appendix

List of Topics Discussed in the Final Issues and Decision Memorandum

I. Summary

II. Background

III. Scope of the Order

IV. List of Comments

V. Analysis of Comments

Comment 1: Whether to Include Expenses Related to Contract Cancellation Charges in Ghigi's General and Administrative (G&A) Expense Calculation

Comment 2: Whether to Adjust Zara's G&A Expense Calculation to Reclassify Certain Expenses

Comment 3: Whether to Revise Manufacturer Field Coding

Comment 4: Whether to Revise Differential Pricing Methodology

VI. Recommendation

[FR Doc. 2017-26165 Filed 12-4-17; 8:45 am]

BILLING CODE 3510-DS-P